DEPARTMENT OF ENERGY

Federal Energy Regulatory Commission

Sunshine Act Meeting Notice

The following notice of meeting is published pursuant to section 3(a) of the government in the Sunshine Act (Pub. L. 94-409), 5 U.S.C.552b:

Agency Holding Meeting: Federal Energy Regulatory Commission.

TIME AND DATE: September 18, 2025, 10:00 a.m.

PLACE: Room 2C, 888 First Street NE, Washington, DC 20426. Open to the public.

STATUS: Open.

MATTERS TO BE CONSIDERED: Agenda.

* Note—Items listed on the agenda may be deleted without further notice.

CONTACT PERSON FOR MORE INFORMATION: Debbie-Anne A. Reese, Secretary, Telephone (202) 502-8400.

For a recorded message listing items Stricken from or added to the meeting, call (202) 502-8627.

This is a list of matters to be considered by the Commission. It does not include a listing of all documents relevant to the items on the agenda. All public documents, however, may be viewed online at the Commission's website at https://elibrary.ferc.gov/eLibrary/search using the eLibrary link.

1128th—Meeting
[Open; September 18, 2025; 10:00 a.m.]
Item No. | Docket No. | Company
Administrative
A-1 | AD25-1-000 | Agency Administrative Matters.
A-2 | AD25-2-000 | Customer Matters, Reliability, Security and Market Operations.
Electric
E-1 | RM25-8-000 | Critical Infrastructure Protection Reliability Standard CIP-003-11—Cyber Security—Security Management Controls.
E-2 | RM24-8-000 | Virtualization Reliability Standards.
E-3 | RD25-7-000 | North American Electric Reliability Corporation.
E-4 | RM24-4-000 | Supply Chain Risk Management Reliability Standards Revisions.
| RM20-19-000 | Equipment and Services Produced or Provided by Certain Entities Identified as Risks to National Security.
E-5 | ER25-1812-000 | New York Independent System Operator, Inc.
E-6 | ER22-1697-003 | Southwest Power Pool, Inc.
E-7 | ER16-1341-003 | Southwest Power Pool, Inc.
E-8 | ER24-98-002 | PJM Interconnection, L.L.C.
E-9 | ER20-2054-000 | ISO New England Inc., Central Maine Power Company, The Connecticut Light and Power Company, Fitchburg Gas and Electric Light Company, Green Mountain Power Corporation, New England Power Company, New Hampshire Transmission, LLC, NSTAR Electric Company, Public Service Company of New Hampshire, The United Illuminating Company, Unitil Energy Systems, Inc., Vermont Electric Cooperative, Inc., Vermont Transco LLC and Versant Power.
E-10 | EL25-89-000 | Duke Energy Carolinas, LLC, Duke Energy Progress, LLC and Duke Energy Indiana, LLC.
Hydro
H-1 | P-13272-008 | Alutiiq Tribe of Old Harbor and Alaska Village Electric Cooperative, Inc.
H-2 | P-14890-006 | Southeast Oklahoma Power Corporation.
H-3 | P-349-250 | Alabama Power Company.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: September 11, 2025.
Debbie-Anne A. Reese,
Secretary.

[FR Doc. 2025-17863 Filed 9-12-25; 4:15 pm]

BILLING CODE 6717-01-P